DEPARTMENT OF EDUCATION

[Docket No.: ED-2023-SCC-0069]

Agency Information Collection Activities; Submission to the Office of Management and Budget for Review and Approval; Comment Request; REL Pacific Efficacy and Implementation Evaluation of the Secondary Writing Toolkit

AGENCY: Institute of Education Sciences (IES), Department of Education (ED).

ACTION: Notice.

SUMMARY: In accordance with the Paperwork Reduction Act (PRA) of 1995, the Department is proposing a new information collection request (ICR).

DATES: Interested persons are invited to submit comments on or before August 30, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Anousheh Shayestehpour, 202-987-1148.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: REL Pacific Efficacy and Implementation Evaluation of the Secondary Writing Toolkit.

OMB Control Number: 1850-NEW.

Type of Review: A new ICR.

Respondents/Affected Public: Individuals and Households.Total Estimated Number of Annual Responses: 1,705.

Total Estimated Number of Annual Burden Hours: 416.

Abstract: The current authorization for the Regional Educational Laboratories (REL) program is under the Education Sciences Reform Act of 2002, part D, section 174, (20 U.S.C. 9564), administered by the Department of Education, Institute of Education Sciences (IES), National Center for Education Evaluation and Regional Assistance (NCEE). The central mission and primary function of the RELs is to support applied research and provide technical assistance to state and local education agencies within their region (ESRA, part D, section 174[f]). The REL program's goal is to partner with educators and policymakers to conduct work that is change-oriented and supports meaningful local, regional, or state decisions about education policies, programs, and practices to improve outcomes for students.

Literacy, including writing, is closely tied to student success throughout K-12 education, which impacts high school graduation (National Institute for Literacy, 2008; NCES, 2020) and ultimately, income beyond graduation (US Bureau of Labor Statistics, 2019). Despite the importance of writing to life and learning, teachers report that the training they receive on teaching writing, both prior to entering the field and while teaching, is minimal or insufficient (Graham, 2019). To address this problem, the REL PA toolkit development team is developing a Secondary Writing Toolkit to support teachers in implementing Hawai`i evidence-based instructional strategies to improve writing among students in grades 6-8. The toolkit is based on the Teaching Secondary Students to Write Effectively WWC Practice Guide and is being developed in collaboration with district and school partners in Hawai`i.

REL Pacific will design the Toolkit to help teachers improve their writing instruction so that students in Hawai`i become stronger, more effective writers. The Toolkit uses Professional Learning Communities (PLCs) facilitated by one of the teachers in the school (peer facilitator) to help teachers learn new instructional skills. Teachers also have access to instructional resources as part of the Toolkit to support their use of evidence-based strategies in their classrooms.

This study is designed to measure the efficacy and implementation of the REL Pacific-developed toolkit designed to improve writing among students in grades 6-8. The toolkit evaluation team plans to conduct an independent evaluation using a school-level, cluster randomized controlled trial design to assess the efficacy of the school-based professional learning resources included in the toolkit. The evaluation will also assess how teachers and facilitators implement the toolkit to provide context for the efficacy findings and guidance to improve the toolkit and its future use. The evaluation will take place in 40 schools in Hawai`i and focus on all students in grades 6-8. The toolkit evaluation will produce a report for district and school leaders who are considering strategies to improve writing among secondary students. The report will provide guidance on using the Toolkit professional development and resources to help teachers implement the Practice Guide (PG) recommendations.

Dated: July 26, 2023.
Stephanie Valentine,
PRA Coordinator, Strategic Collections and Clearance, Governance and Strategy Division, Office of Chief Data Officer, Office of Planning, Evaluation and Policy Development.

[FR Doc. 2023-16177 Filed 7-28-23; 8:45 am]

BILLING CODE 4000-01-P